ENVIRONMENTAL PROTECTION AGENCY

[FRL-9835-1]

Notification of a Public Meeting of the Great Lakes Advisory Board

AGENCY: Environmental Protection Agency (EPA).

ACTION: Notice.

SUMMARY: The Environmental Protection Agency (EPA) announces a public meeting and teleconference of the Great Lakes Advisory Board (GLAB). The meeting will be held on July 23, 2013 in Chicago, Illinois.

DATES: The public meeting will be held on Tuesday, July 23, 2013 from 10:00 a.m. to 3:00 p.m. (Central Daylight Time). Due to budgetary uncertainties, EPA is announcing this meeting with less than 15 calendar days public notice.

ADDRESSES: The meeting will be held at the EPA Region 5 Offices, Lake Superior Room, in the Ralph H. Metcalfe Federal Building, 77 W. Jackson Boulevard, Chicago, Illinois, 60604. The teleconference number is (877) 744-6030.

FOR FURTHER INFORMATION CONTACT: Any member of the public wishing further information regarding this meeting may contact Rita Cestaric, Designated Federal Officer (DFO) for the Great Lakes Advisory Board by telephone at (312) 886-6815 or email at cestaric.rita@epa.gov. General information on the Great Lakes Restoration Initiative (GLRI) and the GLAB can be found on the GLRI Web site at http://www.glri.us.

SUPPLEMENTARY INFORMATION: The GLAB is a federal advisory committee chartered under the Federal Advisory Committee Act (FACA), Public Law 92-463. EPA established the GLAB in 2012 to provide independent, consensus advice on Great Lakes restoration to the EPA Administrator in his or her capacity as Chair of the Interagency Task Force. The GLAB conducts business in accordance with FACA and related regulations.

The GLAB consists of 18 members, including a chairperson, appointed by EPA's Administrator. Members serve as representatives of state, local and tribal government, environmental groups, agriculture, business, transportation, foundations, educational institutions and as technical experts.

Background: EPA is leading an interagency Great Lakes Restoration Initiative (GLRI) to protect and restore the Great Lakes. To guide the efforts of the GLRI, EPA and its federal partners developed a comprehensive action plan for fiscal years 2010 through 2014. The GLAB held a meeting on May 21 and 22, 2013 and a teleconference on June 12, 2013, to discuss refinements to the existing GLRI Action Plan that will inform the development of a draft FY 2015-2019 Action Plan. The purpose of the July 23, 2013 meeting is for the GLAB to discuss its recommendations.

Also, periodic opportunities for the public to provide input to the GLAB for consideration will be provided after the July 23, 2013 public meeting.

Availability of Meeting Materials: The agenda and other materials in support of the meeting will be available on the GLRI Web site at http://www.glri.us.

Procedures for Providing Public Input: Federal advisory committee members provide independent advice to federal agencies. Members of the public can submit relevant comments for consideration by the GLAB. Input from the public will have the most impact if it provides specific information for the GLAB to consider. Members of the public wishing to provide public comment should contact the DFO directly.

Oral Statements: In general, individuals or groups requesting to make an oral presentation at this public meeting will be limited to three minutes per speaker, subject to the number of people wanting to comment. Interested parties should contact Rita Cestaric in writing (preferably via email) at the contact information noted above by July 19, 2013 to be placed on the list of public speakers for the meeting.

Written Statements: Written statements must be received by July 19, 2013 so that the information may be made available to the GLAB for consideration. Written statements should be supplied to the DFO in the following formats: One hard copy with original signature and one electronic copy via email. Commenters are requested to provide two versions of each document submitted: One each with and without signatures because only documents without signatures may be published on the GLRI Web page.

Accessibility: For information on access or services for individuals with disabilities, please contact Rita Cestaric at the phone number or email address above, preferably at least seven days before the meeting, to give EPA as much time as possible to publish your request.

Dated: July 10, 2013.
Susan Hedman,
Great Lakes National Program Manager.

[FR Doc. 2013-17292 Filed 7-17-13; 8:45 am]

BILLING CODE 6560-50-P